DEPARTMENT OF JUSTICE

Notice of Lodging of Consent Decree Pursuant to the Comprehensive Environmental Response Compensation and Liability Act

Notice is hereby given that on August 4, 2000 a proposed partial consent decree in the action entitled United States v. Woodward Metal Processing, Corp. et al., Civil Action No. 98-2736 (JWB/GDH), was lodged with the United States District Court for the District of New Jersey.

In this action, the United States sought the recovery of response costs incurred in connection with a removal action at the Woodard Metal Processing Corporation Site, located at 125 Woodward Street, Jersey City, New Jersey (“Site”), pursuant to Section 107 of the Comprehensive Environmental Response, Compensation, and Liability Act (“CERCLA”), 42 U.S.C. § 9607. The proposed consent decree, if entered by the Court, would resolve the claims of the United States against Defendant Muriel Rosenberg Fierman (“Settling Defendant”). Under the proposed consent decree, Settling Defendant would pay the United States $100,000 in five annual installments of $20,000 each, plus interest. That amount, together with the response costs already recovered by the United States in settlements with other parties, equals approximately $1,957.400 of approximately $2,364,500 in total response costs incurred by the United States in connection with the Site.

The U.S. Department of Justice will receive, for a period of thirty (30) days from the date of publication of this Notice, comments relating to the proposed consent decree. Any comments should be addressed to the Assistant Attorney General for the Environment and Natural Resources Division, U.S. Department of Justice, P.O. Box 7611, Washington, D.C. 20044-7611, and should reference the following case name and number: United States v. Woodward Metal Processing Corp., et al., DJ # 90-11-2-1299/1.

The proposed consent decree may be examined at the offices of EPA Region II, located at 290 Broadway, New York, New York. A copy of the proposed consent decree may also be obtained by mail from the Consent Decree Library, P.O. Box 7611, U.S. Department of Justice, Washington, D.C. 20044-7611. In requesting a copy, please enclose a check in the amount of $7.25 (25 cents per page reproduction cost) payable to the Consent Decree Library.

Bruce S. Gelber,
Deputy Chief, Environmental Enforcement Section, Environment and Natural Resources Division.

[FR Doc. 00-25303 Filed 10-2-00; 8:45 am]

BILLING CODE 4410-15-M